DEPARTMENT OF STATE

[Public Notice 7600; Docket No. DOS-2011-0115; Docket No. DOS-2011-0116]

Notice of Closed Meeting (With Open Session) of the Cultural Property Advisory Committee

There will be a meeting of the Cultural Property Advisory Committee on November 15-17, 2011, at the U.S. Department of State, Annex 5, 2200 C Street, NW., Washington, DC.

During its meeting on November 15-16, the Committee will begin its review of a new cultural property request from the Government of the Republic of Bulgaria seeking import restrictions on archaeological and ethnological material [Docket No. DOS-2011-0115]; and from the Government of the Republic of Belize seeking import restrictions on archaeological material [Docket No. DOS-2011-0116]. On November 16, an open session to receive oral public comment on these requests will be held from 9 a.m. to 12 noon. Please see the links to the Public Summaries of these requests at http://exchanges.state.gov/heritage/whatsnew.html.

The Committee carries out its responsibilities in accordance with provisions of the Convention on Cultural Property Implementation Act (“the Act,” 19 U.S.C. 2601 et seq.). The text of the Act, as well as related information, may be found at http://exchanges.state.gov/heritage/culprop/html.

If you wish to attend the open session, you should notify the Cultural Heritage Center of the Department of State at (202) 632-6301 no later than November 2, 2011, 5 p.m. (E.D.T.) to arrange for admission. Seating is limited. Special accommodation needs should be specified upon notification of attendance. The Committee agenda on November 15-17 also will include orientation (closed session) for new members as well as ethics and security briefings.

If you wish to make an oral presentation at the public session on November 16, you must request to be scheduled and must submit a written text of your oral comments no later than November 2 to allow time for distribution to Committee members prior to the meeting. Oral comments will be limited to allow time for questions from members of the Committee. All comments must relate specifically to the determinations under Section 303(a)(1) of the Convention on Cultural Property Implementation Act, 19 U.S.C. 2602, pursuant to which the Committee makes findings. This statute can be found at the web site noted above.

You may also send written comments to the Committee. Again, your comments must relate specifically to the determinations under Section 303(a)(1) of the Convention on Cultural Property Implementation Act, 19 U.S.C. 2602, pursuant to which the Committee must make findings.

Addresses: Submit all written materials, including the written texts of oral statements, via postal mail, commercial delivery, hand delivery, or through the eRulemaking Portal. If more than three (3) pages, 20 duplicates of written materials must be sent to the address below by commercial delivery. If you have access to the Internet and wish to make a comment of three or fewer pages regarding this Public Notice, please use the Federal eRulemaking Portal (see below). Our adoption of this procedure facilitates public participation and implements section 206 of the E-Government Act of 2002, Public Law 107-347, 116 Stat. 2915. It also supports Secretary of State Hillary Rodham Clinton's Greening Diplomacy Initiative which aims to reduce the State Department's environmental footprint and reduce costs. Comments by fax or by e-mail will not be accepted. Please submit comments just once by November 2, 2011.

Postal Mail or Commercial Delivery. Cultural Heritage Center (ECA/P/C), SA-5, Fifth Floor, Department of State, Washington, DC 20522-0505.

• Hand Delivery. Cultural Heritage Center (ECA/P/C), Department of State, 2200 C Street, NW., Washington, DC 20037.

• Federal eRulemaking Portal. To submit comments electronically, go to http://www.regulations.gov and search on docket number DOS-2011-0115 for Bulgaria and on docket number DOS-2011-0116 for Belize. Information on using Regulations.gov, including instructions for accessing agency documents, submitting comments, and viewing the dockets, is available on the site under “How To Use This Site.”

Are Comments Private? No. Comments submitted in electronic form will be posted on the site http://www.regulations.gov. Because the comments will not be edited to remove any identifying or contact information, the Department of State cautions against including any information in an electronic submission that one does not want publicly disclosed (including trade secrets and commercial or financial information that may be considered privileged or confidential pursuant to 19 U.S.C. 2605(i)(1)). The Department of State requests that any party soliciting or aggregating comments received from other persons for submission to the Department of State inform those persons that the Department of State will not edit their comments to remove any identifying or contact information and, therefore, they should not include any information in their comments that they do not want publicly disclosed.

A Note on Closed Meetings: Portions of the meeting, will be closed pursuant to 5 U.S.C. 552b(c)(9)(B) and 19 U.S.C. 2605(h), the latter of which stipulates that “The provisions of the Federal Advisory Committee Act shall apply to the Cultural Property Advisory Committee except that the requirements of subsections (a) and (b) of section 10 and 11 of such Act (relating to open meetings, public notice, public participation, and public availability of documents) shall not apply to the Committee, whenever and to the extent it is determined by the President or his designee that the disclosure of matters involved in the Committee's proceedings would compromise the Government's negotiation objectives or bargaining positions on the negotiations of any agreement authorized by this title.”

Dated: September 30, 2011.
Ann Stock,
Assistant Secretary, for Educational and Cultural Affairs, Department of State.

[FR Doc. 2011-26648 Filed 10-13-11; 8:45 am]

BILLING CODE 4710-05-P